FEDERAL MARITIME COMMISSION

Notice of Agreements Filed

The Commission hereby gives notice of the filing of the following agreement under the Shipping Act of 1984. Interested parties may submit comments on the agreement to the Secretary, Federal Maritime Commission, Washington, DC 20573, within twelve days of the date this notice appears in the Federal Register. Copies of the agreement are available through the Commission's website (www.fmc.gov) or by contacting the Office of Agreements at (202) 523-5793 or tradeanalysis@fmc.gov.

Agreement No.: 201262.

Title: Southern States Chassis Pool Agreement.

Parties: Georgia Ports Authority and South Carolina Ports Authority.

Filing Party: Paul Heylman; Saul Ewing Arnstein & Lehr.

Synopsis: The Agreement authorizes the parties to establish a chassis pool to service the member ports.

Dated: June 20, 2018.
JoAnne D. O'Bryant,
Program Analyst.

[FR Doc. 2018-13532 Filed 6-22-18; 8:45 am]

BILLING CODE 6731-AA-P